DEPARTMENT OF ENERGY

Federal Energy Regulatory Commission

Combined Notice of Filings #2

Take notice that the Commission received the following exempt wholesale generator filings:

Docket Numbers: EG17-27-000.

Applicants: American Falls Solar, LLC.

Description: American Falls Solar, LLC submits Notice of Self-Certification of Exempt Wholesale Generator Status.

Filed Date: 11/10/16.

Accession Number: 20161110-5161.

Comments Due: 5 p.m. ET 12/1/16.

Docket Numbers: EG17-28-000.

Applicants: American Falls Solar II, LLC.

Description: American Falls Solar II, LLC submits Notice of Self-Certification of Exempt Wholesale Generator Status.

Filed Date: 11/10/16.

Accession Number: 20161110-5163.

Comments Due: 5 p.m. ET 12/1/16.

Take notice that the Commission received the following electric rate filings:

Docket Numbers: ER17-337-000.

Applicants: ISO New England Inc., New England Power Pool Participants Committee.

Description: § 205(d) Rate Filing: Change to Natural Gas Price Index to be effective 1/10/2017.

Filed Date: 11/10/16.

Accession Number: 20161110-5129.

Comments Due: 5 p.m. ET 12/1/16.

Docket Numbers: ER17-338-000.

Applicants: AEP Generation Resources Inc.

Description: § 205(d) Rate Filing: Reactive Supply and Voltage Control Amendment_Lightstone to be effective 12/31/9998.

Filed Date: 11/10/16.

Accession Number: 20161110-5149.

Comments Due: 5 p.m. ET 12/1/16.

Docket Numbers: ER17-339-000.

Applicants: 96WI 8ME, LLC.

Description: Baseline eTariff Filing: 96WI 8ME Initial MBR Application and Request for Expedited Consideration to be effective 1/1/2017.

Filed Date: 11/10/16.

Accession Number: 20161110-5171.

Comments Due: 5 p.m. ET 12/1/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: November 10, 2016.
Kimberly D. Bose,
Secretary.

[FR Doc. 2016-27811 Filed 11-17-16; 8:45 am]

BILLING CODE 6717-01-P